ENVIRONMENTAL PROTECTION AGENCY

40 CFR Part 52

[EPA-R04-OAR-2015-0247; FRL-9940-87-Region 4]

Approval and Promulgation of Implementation Plans; Mississippi; Memphis, TN-MS-AR Emissions Statements for the 2008 8-Hour Ozone Standard

AGENCY: Environmental Protection Agency (EPA).

ACTION: Final rule.

SUMMARY: The Environmental Protection Agency (EPA) is taking final action to approve the state implementation plan (SIP) revision submitted by the State of Mississippi, through the Mississippi Department of Environmental Quality (MDEQ) on August 28, 2015, to address the emissions statement requirements for the State's portion of the Memphis, Tennessee-Mississippi-Arkansas (Memphis, TN-MS-AR) 2008 8-hour ozone national ambient air quality standards (NAAQS) nonattainment area (hereafter referred to as the “Memphis, TN-MS-AR Area” or “Area”). Annual emissions reporting (i.e., emission statements) is required for all ozone nonattainment areas. The Area is comprised of Shelby County in Tennessee, Crittenden County in Arkansas, and a portion of DeSoto County in Mississippi. In this action, EPA is taking final action to approve the emissions statement requirements for DeSoto County in Mississippi portion of the Area.

DATES: This final rule is effective February 11, 2016.

ADDRESSES: EPA has established a docket for this action under Docket Identification No. EPA-R04-OAR-2015-0247. All documents in the docket are listed on the www.regulations.gov Web site. Although listed in the index, some information is not publicly available, i.e., Confidential Business Information or other information whose disclosure is restricted by statute. Certain other material, such as copyrighted material, is not placed on the Internet and will be publicly available only in hard copy form. Publicly available docket materials are available either electronically through www.regulations.gov or in hard copy at the Air Regulatory Management Section, Air Planning and Implementation Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Tiereny Bell, Air Regulatory Management Section, Air Planning and Implementation Branch, Air, Pesticides and Toxics Management Division, U.S. Environmental Protection Agency, Region 4, 61 Forsyth Street, SW., Atlanta, Georgia 30303-8960. Ms. Bell can be reached at (404) 562-9088 and via electronic mail at bell.tiereny@epa.gov.

SUPPLEMENTARY INFORMATION:

I. Background

On August 28, 2015, MDEQ submitted a SIP revision to EPA that seeks to add 11 Mississippi Administrative Code (MAC), Part 2, Chapter 11, “Regulations for Ambient Air Quality Non-Attainment Areas,” ¹ into the Mississippi SIP to meet the emissions statements requirement of CAA section 182(a)(3)(B).² This chapter of the MAC contains Rule 11.1—General, which states the purpose of the regulation; Rule 11.2—Definitions, which defines Commission, Department, NAAQS, Nonattainment Area, and Emissions Statement; and Rule—11.3 Emissions Statement, which: (1) Applies to all stationary sources of NOX [nitrogen oxides] or VOCs [volatile organic compounds] which have the potential to emit 25 tons or more of either pollutant per calendar year and are located in areas designated as nonattainment for the 2008 ozone NAAQS; (2) requires owners and operators of those stationary sources of NOX and VOC to provide a statement showing the actual emissions of NOX and VOCs from that source; and (3) requires that emissions statements be submitted to MDEQ by July 1 of every year, showing actual emissions of the previous calendar year and containing a certification that the information contained in the statement is accurate to the best knowledge of the individual certifying the statement. EPA has determined that these regulations meet all of the requirements of the Clean Air Act (CAA or Act) section 182(a)(3)(B) for the Mississippi portion of the Area because they cover the portion of DeSoto County within the Area and satisfy the applicability, certification, and other emissions statements criteria contained therein.

¹ These regulations conform to the new nomenclature for Mississippi's state regulations pursuant to the State's recently amended Administrative Procedures Act. Mississippi has not provided EPA with a SIP revision to renumber the state regulations currently incorporated into the SIP.

² Section 182(a)(3)(B) of the CAA requires each state with ozone nonattainment areas to submit a SIP revision requiring annual emissions statements to be submitted to the state by the owner or operator of each NOX or VOC stationary source located within a nonattainment area showing the actual emissions of NOX and VOC from that source. The first statement is due three years from the area's nonattainment designation, and subsequent statements are due at least annually thereafter.

In a notice of proposed rulemaking published on August 10, 2015, EPA proposed to approve Mississippi's June 1, 2015, draft SIP revision submitted for parallel processing that sought to add new Rules 11.1, 11.2, and 11.3 from Title 11 of the Mississippi Administrative Code, Part 2, Chapter 11 into the SIP. See 80 FR 47883. The details of Mississippi's submittal and the rationale for EPA's actions are explained in the Proposed Rule. Comments on the proposed rulemaking were due on or before September 9, 2015. No adverse comments were received. On August 28, 2015, Mississippi submitted a final SIP revision that did not contain any substantive changes from the draft version submitted on June 1, 2015. EPA is now taking final action to approve the August 28, 2015 SIP revision as meeting the requirements of section 182(a)(3)(B) of the CAA.

II. Incorporation by Reference

In this rule, EPA is finalizing regulatory text that includes incorporation by reference. In accordance with the requirements of 1 CFR 51.5, EPA is finalizing the incorporate by reference of Title 11 of the MAC, Part 2, Chapter 11 entitled “Regulations for Ambient Air Quality Nonattainment Areas,” which adds a new Rule 11.1—General that states the purposes of the Chapter, a new Rule 11.2—Definitions, and a new Rule 11.3—Emissions Statement covering applicability, which were effective September 26, 2015. EPA has made, and will continue to make, these documents generally available electronically through www.regulations.gov and/or in hard copy at the Region 4 office (see the ADDRESSES section of this preamble for more information).

III. Final Action

EPA is approving the SIP revision submitted by Mississippi on August 28, 2015, to incorporate 11 MAC, Part 2, Chapter 11, “Regulations for Ambient Air Quality Nonattainment Areas,” into its SIP to meet the section 182(a)(3)(B) emissions statements requirement for the Mississippi portion of the Memphis, TN-MS-AR Area. EPA has concluded that the State's submission meets the requirements of the CAA.

IV. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by March 14, 2016. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Incorporation by reference, Intergovernmental relations, Nitrogen dioxide, Ozone, Reporting and recordkeeping requirements, Volatile organic compounds.

Dated: December 21, 2015.
Heather McTeer Toney,
Regional Administrator, Region 4.

40 CFR part 52 is amended as follows:

PART 52—APPROVAL AND PROMULGATION OF IMPLEMENTATION PLANS

1. The authority citation for part 52 continues to read as follows:

Authority: 42 U.S.C. 7401 et seq.

Subpart Z—Mississippi

2. Section 52.1270(c) is amended by adding undesignated heading “11-MAC-Part 2-11 Regulations for Ambient Air Quality Nonattainment Areas” and entries “Rule 11.1”, “Rule 11.2”, and “Rule 11.3” at the end of the table to read as follows:

§ 52.1270 Identification of plan.

* * * * *

(c) * * *

EPA-Approved Mississippi Regulations
State citation | Title/subject | State effective date | EPA approval date | Explanation
* * * * * * *
11-MAC-Part 2-11 Regulations for Ambient Air Quality Nonattainment Areas
Rule 11.1 | General | 9/26/2015 | 1/12/2016 [Insert citation of publication] |
Rule 11.2 | Definitions | 9/26/2015 | 1/12/2016 Insert citation of publication] |
Rule 11.3 | Emissions Statement | 9/26/2015 | 1/12/2016 [Insert citation of publication] |

[FR Doc. 2016-00086 Filed 1-11-16; 8:45 am]

BILLING CODE 6560-50-P